ENVIRONMENTAL PROTECTION AGENCY

[FRL 9842-9]

National Advisory Council for Environmental Policy and Technology

AGENCY: Environmental Protection Agency (EPA).

ACTION: Request for nominations to the National Advisory Council for Environmental Policy and Technology (NACEPT).

SUMMARY: The U.S. Environmental Protection Agency (EPA) invites nominations from a diverse range of qualified candidates representing tribal governments and communities to be considered for appointment to the National Advisory Council for Environmental Policy and Technology (NACEPT). Vacancies are anticipated to be filled by February, 2014. Sources in addition to this Federal Register Notice may be utilized in the solicitation of nominees.

Background: NACEPT is a federal advisory committee chartered under the Federal Advisory Committee Act (FACA), Public Law 92-463. EPA established NACEPT in 1988 to provide advice to the EPA Administrator on a broad range of environmental policy, management and technology issues. Members serve as representatives from academia, industry, non-governmental organizations, and state, local, and tribal governments. Members are appointed by the EPA Administrator for two year terms. The Council usually meets 2-3 times annually face-to-face or via video/teleconference and the average workload for the members is approximately 10 to 15 hours per month. Members serve on the Council in a voluntary capacity. However, EPA provides reimbursement for travel and incidental expenses associated with official government business. EPA is seeking nominations from candidates representing tribal governments/communities. Within these sectors, EPA is seeking nominees with knowledge in community sustainability, public health and health disparities, land use and sustainable development, green jobs and economic initiatives, energy, and environmental financing.

Nominees will be considered according to the mandates of FACA, which requires committees to maintain diversity across a broad range of constituencies, sectors, and groups. EPA values and welcomes diversity. In an effort to obtain nominations of diverse candidates, EPA encourages nominations of women and men of all racial and ethnic groups, as well as geographic locale.

The following criteria will be used to evaluate nominees:

—Professional knowledge of environmental policy, management, and technology issues, particularly issues dealing with all facets of sustainability.

—Demonstrated ability to assess and analyze environmental challenges with objectivity and integrity.

—Middle/Senior-level leadership experience that fills a current need on the Council.

—Excellent interpersonal, oral and written communication, and consensus-building skills.

—Ability to volunteer approximately 10 to 15 hours per month to the Council's activities, including participation on video/teleconference meetings and preparation of text for Council reports and advice letters.

If you are interested in serving on NACEPT, we will need the following items to process your nomination package:

Nominations must include a brief statement of interest, resume, curriculum vitae, or a short biography (no more than two paragraphs) describing your professional and educational qualifications, including a list of relevant activities and any current or previous service on advisory committees. The statement of interest, resume, curriculum vitae, or short biography should include the candidate's name, name and address of current organization, position title, email address, and daytime telephone number(s). In preparing your statement of interest, please describe how your background, knowledge, and experience will bring value to the work of the committee, and how these qualifications would contribute to the overall diversity of the Council. Also, be sure to describe any previous involvement with the Agency through employment, grant funding and/or contracting sources. Candidates must also provide a letter of recommendation, authorizing the nominee to represent the points of view of a specific entity or group (such as an industry sector, state or local government, environmental groups, etc.) that has an interest in the subject matter under the committee's charge.

The nomination package should also include a separate recommendation letter from a third party supporting your nomination. This letter should describe how your background and skills would enrich the quality of the Council's work. Please note that interested candidates may self-nominate. However, be advised that federal registered lobbyist are not permitted to serve on advisory boards.

Anyone interested in being considered for nomination is encouraged to submit a nomination (application) package before the deadline of September 6, 2013. To help the Agency in evaluating the effectiveness of its outreach efforts, please tell us how you learned of this opportunity. Please be aware that EPA's policy is that, unless otherwise prescribed by statute, members generally are appointed to two year terms.

Please submit nominations to: Mark Joyce, Acting Designated Federal Officer, Office of Federal Advisory Committee Management and Outreach, U.S. EPA (1601M), 1200 Pennsylvania Avenue NW., Washington, DC 20460.

To expedite the process, it is preferable to email nominations with subject line “NACEPT Membership Recruitment 2014” to joyce.mark@epa.gov.

FOR FURTHER INFORMATION CONTACT: Mark Joyce, Acting Designated Federal Officer, U.S. EPA; telephone (202) 564-2130; fax (202) 564-8129; email joyce.mark@epa.gov.

Dated: July 25, 2013.
Mark Joyce,
Acting Designated Federal Officer.

[FR Doc. 2013-18692 Filed 8-2-13; 8:45 am]

BILLING CODE 6560-50-P